DEPARTMENT OF STATE

[Public Notice 3487]

Privacy Act of 1974; Altered System of Records

Notice is hereby given that the Department of State proposes to alter two existing systems of records, STATE-35 and STATE-40, pursuant to the provisions of the Privacy Act of 1974, as amended (5 U.S.C. 522a (r)), and the Office of Management and Budget Circular No. A-130, Appendix I. The Department's report was filed with the Office of Management and Budget on November 27, 2000.

It is proposed that the current systems STATE-35 and STATE-40 will be merged and renamed “Information Access Programs Records,” and due to the expanded scope of the current system, the altered system description will include revisions and/or additions to all other sections. Relevant information in STATE-40 has been incorporated in STATE-35 and STATE-40 will be deleted in the near future. Changes to the existing system descriptions are proposed in order to reflect more accurately the Bureau of Administration's record-keeping systems and a reorganization of activities and operations.

Any person interested in commenting on these altered systems of records may do so by submitting comments in writing to Margaret Peppe, Chief; Programs and Policies Division; Office of IRM Programs and Services; A/RPS/IPS/PP; U.S. Department of State, SA-2; Washington, D.C. 20522-6001.

This system of records will be effective 40 days from the date of publication, unless we receive comments that will result in a contrary determination.

The altered system description, “Information Access Programs Records, STATE-35” will read as set forth below.

Dated: November 27, 2000.
Patrick F. Kennedy,
Assistant Secretary for the Bureau of Administration, Department of State.

STATE-35

System Name:

Information Access Programs Records.

Security Classification:

Unclassified and classified.

System Location:

Department of State; SA-2; 515 22nd Street, NW; Washington, DC 20522-6001.

Categories of individuals covered by the system:

Individuals requesting access to Department of State records under the Freedom of Information Act, the Privacy Act, the Ethics in Government Act, the access provisions of Executive Order 12958 or a successor order on national security information, and Touhy regulations. Also covered are individuals requesting access to Department of State records pursuant to certain other authorities for special documents requests and discovery and litigation support requests.

Categories of records in the system:

These records contain information documenting the processing of all requests pursuant to the Freedom of Information Act, the Privacy Act, the Ethics in Government Act, and Executive Order 12958 or a successor order on national security information, for access to State Department records. This includes the request letter and Department responses, a copy of responsive records (if applicable) and any other correspondence, memoranda, interrogatories and declarations related to the processing of the request from the initial receipt stage through to completion, amendment, appeal and litigation. Hard copy records, for example, could include correspondence between the Department of State and the requester and other federal agencies pertaining to the request. Electronic records may contain the date of the request; requester's name and address; type of case; case number; dates of acknowledgement; fee categories; search and review taskings; number of documents/pages found, reviewed and released or denied; date of response and, where applicable, the exemptions applied. These files may contain names, addresses and phone numbers of attorneys, law firms, judges and U.S. attorneys involved with the processing or litigation of the case as well as separate but related court decisions.

Authority for maintenance of the system:

5 U.S.C. 301 (Management of the Department of State); 5 U.S.C. 552 (Freedom of Information Act); 5 U.S.C. 552a (Privacy Act); 22 U.S.C. 2651a (Organization of the Department of State); 22 U.S.C. 3921 (Management of Foreign Service) and Executive Order 12958 (Classified National Security Information).

Purpose(s):

The information contained in the Information Access Programs Records is created, collected, and maintained by the Office of IRM Programs and Services in the administration of its responsibility as the State Department's centralized authority for processing requests for access; amendments; appeals; special projects for Congress, the General Accounting Office, and the Department of Justice in support of court orders and subpoenas; discovery, litigation support, and litigation pursuant to the Freedom of Information Act, the Privacy Act, the Ethics in Government Act, Executive Order 12958 or a successor order on national security information, and Touhy regulations.

Routine uses of records maintained in the system, including categories of users and the purposes of such uses:

Information in the Information Access Programs Records is used or disseminated as follows:

—To formulate a response to requests for access to Department of State records and subsequent amendment requests, appeals and litigation;

—By Department of State officials in the execution of their responsibilities;

—By other government agencies that have custody of Department of State records or that share with the Department responsibility for granting access to certain categories of records, to coordinate decisions on access to records;

—By other government agencies for concurrence reviews in recommendations for access to classified or restricted material and in making appropriate arrangements for such access;

—In a proceeding before a court or adjudicative body, when the agency, or any component thereof, or any employee of the agency in his or her official capacity, is a party to litigation or has an interest in such litigation, and the agency determines that use of such records is relevant and necessary to the litigation;

—To the Department of Justice for the purpose of obtaining its advice on any aspect of the processing of any requests for information under the access provisions of the laws or in connection with litigation;

—To an actual or potential party to litigation or the party's attorney for the purpose of negotiation or discussion on such matters as settlement of the case or matter, plea bargaining or in formal or informal discovery proceedings;

—By the Office of Management and Budget, National Archives and Records Administration and the Interagency Security Oversight Office, for the purpose of obtaining its advice regarding agency obligations under the Privacy Act or other access provisions of law;

—By the Interagency Security Classification Appeals Panel and member agencies for the purpose of obtaining its advice regarding agency obligations under the Privacy Act or other access provisions of law;

—In response to a properly issued subpoena; and

—By National Archives and Records Administration and the General Services Administration in records management inspections conducted under the authority of 44 U.S.C. 2904 and 2906.

Also see “Routine Uses” paragraphs of the Prefatory Statement published in the Federal Register.

Policies and practices for storing, retrieving, accessing, retaining and disposing of records in the system:

Storage:

Hard copy, electronic media.

Retrievability:

Individual name, case number.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive, at which time they will be destroyed or retired according to published records schedules of the Department of State and as approved by the National Archives and Records Administration. More specific information may be obtained by writing to the Director, Office of IRM Programs and Services; SA-2; Department of State; 515 22nd Street, NW; Washington, DC 20522-6001.

Systems manager(s) and address:

Director, Office of IRM Programs and Services, SA-2; Department of State; 515 22nd Street, NW; Washington, DC 20522-6001.

Notification procedure:

Individuals who have reason to believe that the Office of IRM Programs and Services might have records maintained under their name or personal identifier should write to the Director, Office of IRM Programs and Services; SA-2; Department of State; 515 22nd Street, NW; Washington, DC 20522-6001. The individual must specify that he/she wishes the Information Access Programs Records to be checked. At a minimum, the individual must include: name; date and place of birth; current mailing address and zip code; signature; and case number if available.

Record access and amendment procedures:

Individuals who wish to gain access to or amend records pertaining to themselves should write to the Director, Office of IRM Programs and Services (address above).

Record source categories:

These records may contain information obtained from the requester, attorneys representing the requester and others authorized to represent requesters, records systems searched, and officials of other government agencies who may have provided/referred information relative to the request including but not limited to documents, advice, concurrence, recommendations and disclosure determinations.

Systems exempted from certain provisions of the Act:

Pursuant to 5 U.S.C. 552a (j)(2), (k)(1), (k)(2), (k)(5), and (k)(6) records in this system of records may be exempted from 5 U.S.C. 522a (c)(3) and (4), (d), (e)(1), (e)(4)(G), (H), and (I) and (f).

[FR Doc. 00-30812 Filed 12-1-00; 8:45 am]

BILLING CODE 4710-05-U